DEPARTMENT OF TRANSPORTATION

Coast Guard

33 CFR Part 117

[CGD08-01-022]

RIN 2115-AE47

Drawbridge Operation Regulation; Lake Pontchartrain, LA

AGENCY: Coast Guard, DOT.

ACTION: Final rule.

SUMMARY: The Coast Guard is changing the drawbridge operation regulation for the draw of the Greater New Orleans Expressway Commission Causeway across Lake Pontchartrain between Metairie, Jefferson Parish and Mandeville, St. Tammany Parish, Louisiana. The rule allows the dual bridges to remain closed to navigation during the morning and afternoon rush hours while still requiring three hours notification to open on signal at all other times.

DATES: This rule is effective December 7, 2001.

ADDRESSES: Comments and materials received from the public, as well as documents indicated in this preamble as being available in the docket, are part of the docket and are available for inspection or copying at the office of the Eighth Coast Guard District, Bridge Administration Branch, 501 Magazine Street, New Orleans, Louisiana 70130-3396, between 7 a.m. and 3 p.m., Monday through Friday, except Federal holidays.

FOR FURTHER INFORMATION CONTACT: Mr. David Frank, Bridge Administration Branch, at the address given above or telephone (504) 589-2965.

SUPPLEMENTARY INFORMATION:

Regulatory Information

On August 16, 2001, we published a notice of proposed rulemaking (NPRM) entitled Drawbridge Operation Regulation, Lake Pontchartrain, LA in the Federal Register (66 FR 15373). We received three letters commenting on the proposed rule. No public hearing was requested, and none was held.

Background and Purpose

The bascule span of the dual bridges of the Greater New Orleans Expressway Commission Causeway across Lake Pontchartrain presently opens on signal if at least three hours notice is given. The Greater New Orleans Expressway Commission has requested a change in the operating schedule of the dual bridges to allow the draw to remain closed during peak vehicular traffic periods. Approximately 15,000 vehicles cross the dual bridges in each direction daily. Of the nearly 15,000 vehicles that cross the southbound bridge from St. Tammany Parish to Jefferson Parish, approximately 50% of these vehicles cross this bridge between the hours of 5:30 a.m. and 9:30 a.m. Of the nearly 15,000 vehicles that cross the northbound bridge from Jefferson Parish to St. Tammany Parish, approximately 50% of these vehicles cross this bridge between the hours of 3 p.m. and 7 p.m. During these peak traffic periods, an opening of the draw can cause traffic to back up approximately four to five miles.

Tender logs for the past year indicate that only six vessels have required the draw to open during these times.

Discussion of Comments and Changes

Three letters were received in response to the NPRM. National Mariner Fisheries Service offered no objections to the proposed change. Pontchartrain Materials offered no objections to the proposed project; however, they did offer comments regarding delays to vessels in distress. The Coast Guard explained that the drawbridge is required to open for vessels in distress. The U. S. Fish and Wildlife Service officer no objections to the proposed changes.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT)(44 FR 11040, February 26, 1979).

The Coast Guard expects the economic impact of this rule to be so minimal that a full Regulatory Evaluation under paragraph 10(e) of the regulatory policies and procedures of DOT is unnecessary.

This rule allows vessels ample opportunity to transit this waterway with proper notification before and after the peak vehicular traffic periods. According to the vehicle traffic surveys provided by the applicant, these periods occur between 5:30 a.m. and 9:30 a.m. and between 3 p.m. and 7 p.m.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

Assistance for Small Entities

Under section 213(a) of the Small Business Regulatory Enforcement Fairness Act of 1996 (Public Law 104-121), we want to assist small entities in understanding this rule so that they can better evaluate its effects on them and participate in the rulemaking process.

Collection of Information

This rule calls for no new collection of information under the Paperwork Reduction Act of 1995 (44 U.S.C. 3501-3520.).

Federalism

We have analyzed this rule under Executive Order 13132, Federalism, and have determined that this rule would not have implications for federalism under that Order. No comments were received with regards to federalism during the NPRM comment period.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule does not impose an unfunded mandate. No comments were received with regards to unfunded mandates during the NPRM comment period.

Taking of Private Property

This rule would not effect a taking of private property or otherwise have taking implications under Executive Order 12630, Governmental Actions and Interference with Constitutionally Protected Property Rights. No comments were received with regards to private property during the NPRM comment period.

Civil Justice Reform

This rule meets applicable standards in sections 3(a) and 3(b)(2) of Executive Order 12988, Civil Justice Reform, to minimize litigation, eliminate ambiguity, and reduce burden. No comments were received with regards to civil justice reform during the NPRM comment period.

Protection of Children

We have analyzed this rule under Executive Order 13045, Protection of Children from Environmental Health Risks and Safety Risks. This rule is not economically significant and does not cause an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this rule and concluded that, under figure 2-1, paragraph 32(e), of Commandant Instruction M16475.lD, this rule be categorically excluded from further environmental documentation. A “Categorical Exclusion Determination” is available in the docket where indicated under ADDRESSES.

List of Subjects in 33 CFR Part 117

Bridges.

For the reasons set out in the preamble, the Coast Guard amends Part 117 of Title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. In 117.467, paragraph (b) is revised to read as follows:

117.467 Lake Pontchartrain.

* * * * *

(b) The draw of the Greater New Orleans Expressway Commission Causeway shall open on signal if at least three hours notice is given; except that, the draw need not be opened for the passage of vessels Monday through Friday except Federal holidays from 5:30 a.m. to 9:30 a.m. and from 3 p.m. until 7 p.m. The draw will open on signal for any vessel in distress or vessel waiting immediately following the closures listed above.

Dated: October 25, 2001.
Roy J. Casto,
Rear Admiral, U.S. Coast Guard, Commander, Eighth Coast Guard District.

[FR Doc. 01-27875 Filed 11-6-01; 8:45 am]

BILLING CODE 4910-15-P